DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet via web conference on December 6, 2017.

The board will meet in closed session on December 6, 2017, from 10:00 a.m. to 4:00 p.m. EST to discuss proposed revisions to the Mandatory Guidelines for Federal Workplace Drug Testing Programs (Oral Fluid), evaluation of hair as an alternate matrix for drug testing, and future board activities. The meeting will be closed to the public as determined by the Assistant Secretary for Mental Health and Substance Use, SAMHSA, in accordance with 5 U.S.C. 552b(c)(4) and (9)(B), and 5 U.S.C. App. 2, Section 10(d).

The web conference call-in number and access code will only be available to board members, invited guests, and CSAP staff. Registration will be available for members and invited guests online at http://snacregister.samhsa.gov/MeetingList.aspx.

Meeting information and a roster of DTAB members may be obtained by accessing the SAMHSA Advisory Committees Web site, http://www.samhsa.gov/about-us/advisory-councils/drug-testing-advisory-board-dtab or by contacting the Designated Federal Officer, Brian Makela.

Committee Name: Substance Abuse and Mental Health Services Administration's Center for Substance Abuse Prevention Drug Testing Advisory Board.

Dates/Time/Type: December 6, 2017, from 10:00 a.m. to 4:00 p.m., EST: CLOSED.

Place: Parklawn Building, 5600 Fishers Lane, Rockville, Maryland 20857.

Contact: Brian Makela, Division of Workplace Programs, 5600 Fishers Lane, Room 16N02B, Rockville, Maryland 20857, Telephone: 240-276-2600, Email: brian.makela@samhsa.hhs.gov.

Brian Makela,
Chemist, Substance Abuse and Mental Health Services Administration.

[FR Doc. 2017-24717 Filed 11-14-17; 8:45 am]

BILLING CODE 4162-20-P